DEPARTMENT OF LABOR

Office of the Secretary

Submission for OMB Review; Comment Request

October 4, 2002.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation, contact Darrin King on (202) 693-4129 or e-mail: King-Darrin@dol.gov.

Comments should be sent to Office of Information and Regulatory Affairs, Attn: OMB Desk Officer for the Department of Labor, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.q., permitting electronic submission of responses.

Agency: Office of Disability Employment Policy (ODEP).

Type of Review: Extension of a currently approved collection.

Title: Solicitation of Nominations for the Department of Labor's New Freedom Initiative Award.

OMB Number: 1230-0002.

Frequency: Annually.

Affected Public: Individuals or households; Businesses or other for-profit, Not-for-profit institutions; Federal Government; and State, and Local, or Tribal Government.

Number of Respondents: 100.

Number of Annual Responses: 100.

Estimated Time Per Respondent: 10 hours.

Total Burden Hours: 1,000 hours.

Total Burden Cost (capital/startup): $0.

Total Burden Cost (operating/maintaining): $0.

Description: This collection of information (solicitation of nominations to receive an award) honors individuals, corporations and non-profit organizations that have been exemplary in furthering the employment-related objectives of President George W. Bush's New Freedom Initiative. The New Freedom Initiative reflects the Administration's commitment to increasing development and access to assistive and universally designed technologies, expanding educational opportunities, further integrating Americans with disabilities into the workforce, and helping to remove barriers to their full participation in community life.

Marlene J. Howze,
Acting Departmental Clearance Officer.

[FR Doc. 02-26840 Filed 10-21-02; 8:45 am]

BILLING CODE 4510-CX-M